DEPARTMENT OF COMMERCE

Foreign-Trade Zones Board

[Docket 30-2009]

Foreign-Trade Zone 072 - Indianapolis, Indiana, Application for Subzone, Brightpoint North America L.P. (Cell Phone Kitting and Distribution), Plainfield, Indiana

An application has been submitted to the Foreign-Trade Zones Board (the Board) by the Indianapolis Airport Authority, grantee of FTZ 72, requesting special-purpose subzone status for the cell phone kitting and distribution facilities of Brightpoint North America L.P. (Brightpoint), located in Plainfield, Indiana. The application was submitted pursuant to the provisions of the Foreign-Trade Zones Act, as amended (19 U.S.C. 81a-81u), and the regulations of the Board (15 CFR part 400). It was formally filed on July 21, 2009.

The Brightpoint facilities (1,470 employees, 60,000,000 unit capacity) consist of 2 sites on 52.92 acres: Site 1 (34.34 acres) is located at 501 Airtech Parkway, Plainfield; and Site 2 (18.58 acres) is located at 1251 South Perry Road, Plainfield. The facilities are used for cell phone kitting, testing, programming, packaging, warehousing and distribution. Components and materials sourced from abroad (representing 70-90% of the value of the finished product) include: decals; plastic holsters; carrying cases; straps; power supplies; batteries; line telephone sets; videophones; base stations; microphones; speakers; headsets; telephone answering machines; video recorders; transceivers; monitors and projectors; key pads; thermionic, cold cathode or photocathode tubes; and cables (duty rate ranges from 0 to 17.6%).

FTZ procedures could exempt Brightpoint from customs duty payments on the foreign components used in export production. The company anticipates that some 5 percent of the plant's shipments will be exported. On its domestic sales, Brightpoint would be able to choose the duty rates during customs entry procedures that apply to cell phone sets (duty-free) for the foreign inputs noted above. FTZ designation would further allow Brightpoint to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is September 28, 2009. Rebuttal comments in response to material submitted during the foregoing period may be submitted during the subsequent 15-day period to October 13, 2009.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Elizabeth Whiteman at Elizabeth_Whiteman@ita.doc.gov or (202) 482-0473.

Dated: July 21, 2009.
Andrew McGilvray,
Executive Secretary.

[FR Doc. E9-18094 Filed 7-28-09; 8:45 am]

BILLING CODE 3510-DS-S